DEPARTMENT OF COMMERCE

National Oceanic and Atmospheric Administration

[RTID 0648-XA950]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of its Habitat Protection and Ecosystem-Based Management Advisory Panel (Habitat AP).

DATES: The Habitat AP will meet via webinar on Wednesday, April 14, 2021, from 1 p.m. to 4 p.m.; Thursday, April 15, 2021, from 9 a.m. to 4 p.m.; and Friday, April 16, 2021, from 9 a.m. to 12 noon.

ADDRESSES:

Meeting address: The meeting will be held via webinar.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Habitat AP meeting is open to the public and will be available via webinar as it occurs. Registration is required. Webinar registration information and other meeting materials will be posted to the Council's website at: http://safmc.net/safmc-meetings/current-advisory-panel-meetings/ as it becomes available.

The meeting agenda includes the following: A briefing on recent actions by the Council's Habitat Committee; status of amendment development; review and comment on NOAA Fisheries South Atlantic Climate Vulnerability Assessment; review and comment on NOAA Fisheries South Atlantic Ecosystem Status Report; input on the Council's Fishery Ecosystem Plan (FEP) II Roadmap Activities; initiate development of revisions to the Council's Beach Dredge and Fill and Large Scale Coastal Engineering Policy Statement Policy Statement; overview and discussion on how the Council's Habitat and Ecosystem web pages/Fishery Ecosystem Plan II Dashboard is being utilized; and updates on Habitat and Ecosystem Digital Dashboard and Web Services and discussion on use. The AP will also receive updates on: Executive Order on Climate; development of a SAFMC Habitat Blueprint; on the Endangered Species Act—Biological Opinion for beach, sand placement and dredging; Bureau of Ocean Energy Management 2021 Activities, the Kitty Hawk Wind and South Carolina Wind Call Areas; the Council Coordinating Committee Habitat Workgroup Activities; and Southeast Connectivity and Adaptation Strategy (SECAS) and Regional Conservation Blueprint.

The AP will develop recommendations as necessary for consideration by the Council's Habitat Protection and Ecosystem-Based Management Committee.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: March 24, 2021.
Tracey L. Thompson,
Acting Deputy Director, Office of Sustainable Fisheries, National Marine Fisheries Service.

[FR Doc. 2021-06447 Filed 3-26-21; 8:45 am]

BILLING CODE 3510-22-P